DEPARTMENT OF ENERGY

Federal Energy Regulatory Commission

[Docket No. EG03-40-000, et al.]

Calpine California Equipment Finance Company, LLC., et al.; Electric Rate and Corporate Filings

February 6, 2003.

The following filings have been made with the Commission. The filings are listed in ascending order within each docket classification.

1. Calpine California Equipment Finance Company, LLC

[Docket No. EG03-40-000

Take notice that on January 31, 2003, Calpine California Equipment Finance Company, LLC (CCEFC) tendered for filing with the Federal Energy Regulatory Commission (Commission) an application for determination of exempt wholesale generator status pursuant to part 365 of the Commission's regulations.

CCEFC, a Delaware limited liability company, owns and leases to certain of its affiliates in California 495 MW of electric generating facilities. CCEFC states that it will purchase and resell the output of such facilities at wholesale. CCEFC further states that copies of the application were served upon the U.S. Securities and Exchange Commission and California Public Utilities Commission.

Comment Date: February 17, 2003.

2. Calpine Parlin, LLC

[Docket No. EG03-41-000]

Take notice that on February 4, 2003, Calpine Parlin, LLC (Calpine Parlin), c/o Calpine Corporation Eastern Region Office, The Pilot House, 2nd Floor, Lewis Wharf, Boston, MA 02110, filed with the Federal Energy Regulatory Commission (Commission) an application for determination of exempt wholesale generator status pursuant to part 365 of the Commission's regulations.

Calpine Parlin is a Delaware limited liability company and a wholly-owned subsidiary of Calpine Cogeneration Corporation. Calpine Parlin states that it owns and operates a 122 MW cogeneration facility located in Parlin, New Jersey and sells electric energy at wholesale. Calpine Parlin further states that copies of the application were served upon the Securities and Exchange Commission, New Jersey Board of Public Utilities, Colorado Public Utilities Commission, Kansas Corporation Commission, Michigan Public Service Commission, Minnesota Public Utilities Commission, New Mexico Public Regulation Commission, North Dakota Public Service Commission, Oklahoma Corporation Commission, South Dakota Public Utilities Commission, Texas Public Utility Commission, Wisconsin Public Service Commission, and Wyoming Public Service Commission.

Comment Date: February 27, 2003.

3. Empire District Electric Company

[Docket No. ER99-1757-002]

Take notice that on February 4, 2003, Empire District Electric Company (Empire) filed an updated market analysis as required by the Commission's March 31, 1999, order in Docket No. ER99-1757-000 granting Empire market based rate authority.

Comment Date: February 25, 2003.

4. International Falls Power Company

[Docket No. ER03-319-001]

Take notice that on February 4, 2003, International Falls Power Company (IFPC) tendered for filing in this matter a Submission of First Amendment to Initial Rate Schedule.

Comment Date: February 25, 2003.

5. Klondike Wind Power LLC

[Docket No. ER03-416-002]

Take notice that on February 4, 2003, Klondike Wind Power LLC (Klondike) amended its January 17, 2003, revised market-based tariff (Tariff) filing with the Federal Energy Regulatory Commission (the Commission). The amendment reflects changes to its Code of Conduct to conform to prior Commission orders. Klondike reiterates its request for a waiver of the 60-day prior notice requirement to allow its revised Tariff (as amended) to become effective as of December 19, 2002.

Comment Date: February 25, 2003.

6. Ameren Services Company

[Docket No. ER03-491-000]

Take notice that on February 3, 2003, Ameren Services Company (ASC) tendered for filing an unexecuted Service Agreement for Firm Point-to-Point Service between ASC and Westar Energy, Inc. ASC asserts that the purpose of the Agreement is to permit ASC to provide transmission service to Westar Energy, Inc. pursuant to Ameren's Open Access Transmission Tariff.

Comment Date: February 24, 2003.

7. Harquahala Generating Company, LLC

[Docket No. ER03-492-000]

Take notice that on February 3, 2003, Harquahala Generating Company, LLC (Harquahala) tendered for filing with the Federal Energy Regulatory Commission (Commission) a proposed amendment to the Western Systems Power Pool (WSPP) Agreement. The proposed amendment reflects the admission of Harquahala to membership in the WSPP. Harquahala requests that the Commission authorize the proposed amendment to become effective on February 3, 2003.

Comment Date: February 24, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-3654 Filed 2-13-03; 8:45 am]

BILLING CODE 6717-01-P